COMMITTEE FOR PURCHASE FROM PEOPLE WHO ARE BLIND OR SEVERELY DISABLED

Procurement List Proposed Deletions

AGENCY: Committee for Purchase From People Who Are Blind or Severely Disabled.

ACTION: Proposed deletions from Procurement List.

SUMMARY: The Committee is proposing to delete the products and services previously furnished by nonprofit agencies employing persons who are blind or have other severe disabilities.

Comments Must Be Received on or Before: 11/02/2009.

ADDRESSES: Committee for Purchase From People Who Are Blind or Severely Disabled, Jefferson Plaza 2, Suite 10800, 1421 Jefferson Davis Highway, Arlington, Virginia 22202-3259.

For Further Information or to Submit Comments Contact:

Patricia Briscoe, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

NSN: 7510-01-219-5753, Ribbon, Lift-Off Dry.

NPA: Charleston Vocational Rehabilitation Center, Charleston Heights, SC.

Contracting Activity: GSA/FSS OFC SUP CTR—Paper Products, New York, NY.

NSN: 7920-00-292-2368, Broom, Upright.

NPA: Blind and Vision Rehabilitation Services of Pittsburgh, Pittsburgh, PA.

Contracting Activity: GSA/FAS Southwest Supply Center (QSDAC), Fort Worth, TX.

Services

Service Types/Locations:

Catering Service: Military Entrance Processing Station, Jackson, MS.

NPA: Goodwill Industries of Mississippi, Inc., Ridgeland, MS.

Contracting Activity: Dept of the Army, XR W6BB ACA KNOX, Ft Knox, KY.

Custodial: Griffin Street Auto Park, 404 S. Griffin Street, Dallas, TX.

NPA: The Arc of Caddo-Bossier, Shreveport, LA.

Contracting Activity: GSA/Public Buildings Service, Building Services Team, Fort Worth, TX.

Federal Register Publication of A-B-C Lists Changes of AbilityOne products: The Committee will no longer publish a quarterly report of changes for AbilityOne products between the A-B-C list.

Patricia Briscoe,
Deputy Director, Business Operations (Pricing and Information Management).

[FR Doc. E9-23731 Filed 9-30-09; 8:45 am]

BILLING CODE 6353-01-P